DEPARTMENT OF TRANSPORTATION

National Highway Traffic Safety Administration

Reports, Forms, and Recordkeeping Requirements; Agency Information Collection Activity Under OMB Review

AGENCY: National Highway Traffic Safety Administration (NHTSA), Department of Transportation.

ACTION: Notice.

SUMMARY: In compliance with the Paperwork Reduction Act of 1995 (44 U.S.C. 3501 et seq.), this notice announces that the Information Collection Request (ICR) abstracted below will be forwarded to the Office of Management and Budget (OMB) for review and comment. The ICR describes the nature of the information collections and their expected burden. The Federal Register Notice with a 60-day comment period was published on June 9, 2010 [FR Doc. 2010-0065, Vol. 75, No. 110, Pages 32838-32839].

DATES: Comments must be submitted on or before October 1, 2010.

FOR FURTHER INFORMATION CONTACT: Charlene Doyle, NVS-431, Office of Regulatory Analysis and Evaluation, National Highway Traffic Safety Administration, 1200 New Jersey Avenue, SE., Washington, DC 20590. Ms. Doyle's phone number is 202-366-1276 and her e-mail address is charlene.doyle@dot.gov.

SUPPLEMENTARY INFORMATION:

National Highway Traffic Safety Administration

Title: National Child Restraint Use Special Study (NCRUSS).

OMB Number: 2127-0642.

Type of Request: Request for public comment on proposed collection of information.

Abstract: The National Highway Traffic Safety Administration (NHTSA) proposes to conduct information collections to assess the levels of child restraint system use and misuse for children riding in passenger vehicles, and to examine whether the levels of use and/or misuse are related to any specific characteristics of the drivers, their passengers, the child restraints, and/or the vehicles. Previous studies have shown that there is a gap between recommended child restraint use and observed use. Actions have been taken by NTHSA to close the gap. In March 1999, NHTSA published a final rule establishing a uniform child restraint attachment system known as LATCH, Lower Anchors and Tethers for CHildren (Federal Motor Vehicles Safety Standard 213, Child Restraint Systems and FMVSS 225, Child Restraint Anchorage Systems), in order to provide another, easier method of attaching a child restraint to the vehicle. This new collection of data is necessary in order to evaluate the effectiveness of FMVSS 225 and FMVSS 213, as well as to obtain an up to date snapshot of child restraint use and misuse across the United States. This information will be used in assessing what additional actions NHTSA should take to improve child passenger safety. In addition, NTHSA will publish the findings of this research study to provide information to States, localities, and other interested organizations in support of their efforts to reduce and prevent injuries among child occupants. NHTSA proposes to collect observational data on correct and incorrect use of child restraint systems in passenger vehicles, as well as interview information from drivers about their knowledge and perceptions of child restraint systems. The primary population for observation will be restrained and unrestrained child passengers riding in any seating position in passenger vehicles. Participation in the study will be voluntary. Interviews with drivers who agree to participate will be used to obtain the following data: demographic information on occupants, the driver's knowledge about the specific CRS in the vehicle, and the driver's general knowledge and experience with different types of restraint systems. While the interview is being conducted, a trained observer will collect information about the CRS in the vehicle, including the type of restraint that is used, the type of installation (seat belt or LATCH), how the CRS is installed, harness use, and seat belt fit. The observer will not remove the child or CRS from the vehicle.

Affected Public: Drivers of passenger vehicles who are transporting children and their passengers.

Estimated Total Annual Burden: 880 hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Authority: 44 U.S.C. 3506(c)(2)(A).

James F. Simons,
Director, Office of Regulatory Analysis and Evaluation.

[FR Doc. 2010-21871 Filed 8-31-10; 8:45 am]

BILLING CODE 4910-59-P